DEPARTMENT OF TRANSPORTATION

Federal Aviation Administration

14 CFR Part 71

[Docket No. FAA-2021-0814; Airspace Docket No. 21-AGL-30]

RIN 2120-AA66

Proposed Amendment of Class D and Class E Airspace and Revocation of Class E Airspace; Rochester and St. Cloud, MN

AGENCY: Federal Aviation Administration (FAA), DOT.

ACTION: Notice of proposed rulemaking (NPRM).

SUMMARY: This action proposes to amend the Class D and Class E airspace at Rochester International Airport, Rochester, MN, and St. Cloud Regional Airport, St. Cloud, MN, and revoke Class E airspace at Rochester International Airport. The FAA is proposing this action as the result of biennial airspace reviews. The geographic coordinates of St. Cloud Regional Airport would also be updated to coincide with the FAA's aeronautical database.

DATES: Comments must be received on or before December 27, 2021.

ADDRESSES: Send comments on this proposal to the U.S. Department of Transportation, Docket Operations, West Building Ground Floor, Room W12-140, 1200 New Jersey Avenue SE, Washington, DC 20590; telephone (202) 366-9826, or (800) 647-5527. You must identify FAA Docket No. FAA-2021-0814/Airspace Docket No. 21-AGL-30 at the beginning of your comments. You may also submit comments through the internet at https://www.regulations.gov. You may review the public docket containing the proposal, any comments received, and any final disposition in person in the Dockets Office between 9:00 a.m. and 5:00 p.m., Monday through Friday, except federal holidays.

FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order JO 7400.11F at NARA, email: fr.inspection@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it would amend the Class D airspace, Class E surface airspace, and Class E airspace extending upward from 700 feet above the surface at Rochester International Airport, Rochester, MN; revoke the Class E airspace designated as an extension to Class D and Class E surface areas at Rochester International Airport; amend the Class D airspace, Class E surface area, Class E airspace designated as an extension to Class D and Class E surface areas, and Class E airspace extending upward from 700 feet above the surface at St. Cloud Regional Airport, St. Cloud, MN, to support instrument flight rule operations at these airports.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2021-0814/Airspace Docket No. 21-AGL-30.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by:

Amending the Class D airspace to within a 4.4-mile (increased from a 4.3-mile) radius of Rochester International Airport, Rochester, MN; removing the Rochester VOR/DME from the airspace legal description as it is not required; and updating the outdated term “Airport/Facility Directory” to “Chart Supplement”;

Amending the Class D airspace to within a 4.2-mile (increased from a 4.1-mile) radius of St. Cloud Regional Airport, St. Cloud, MN; updating the geographic coordinates of the airport to coincide with the FAA's aeronautical database; and updating the outdated term “Airport/Facility Directory” to “Chart Supplement”;

Amending the Class E surface area to within a 4.4-mile (increased from a 4.3-mile) radius of Rochester International Airport; removing the Rochester VOR/DME and associated extension from the airspace legal description as they are no longer required; and updating the outdated term “Airport/Facility Directory” to “Chart Supplement”;

Amending the Class E surface area to within a 4.2-mile (increased from a 4.1-mile) radius of St. Cloud Regional Airport; removing the St. Cloud VOR/DME and associated extension from the airspace legal description as they no longer required; updating the geographic coordinates of the airport to coincide with the FAA's aeronautical database; and updating the outdated term “Airport/Facility Directory” to “Chart Supplement”;

Removing the Class E airspace designated as an extension to Class D and Class E surface areas at Rochester International Airport as it is no longer required;

Amending the Class E airspace designated as an extension to Class D and Class E surface areas at St. Cloud Regional Airport to within 2.4 miles each side of the St. Cloud VOR/DME 140° (previously 143°) radial extending from the 4.2-mile (increased from 4.1-mile) radius of the St. Cloud Regional Airport to 7 (decreased from 7.2) miles southeast of the St. Cloud VOR/DME (previously airport); and updating the geographic coordinates of the airport to coincide with the FAA's aeronautical database;

Amending the Class E airspace extending upward from 700 feet above the surface to within a 6.9-mile (increased from a 6.8-mile) radius of Rochester International Airport; removing the Rochester VOR/DME and associated extension from the airspace legal description as they are no longer required; adding an extension within 2 miles each side of the 132° bearing from the airport extending from the 6.9-mile radius to 10.9 miles southeast of the airport; amending the southeast extension to within 4 miles each side of the of the 132° bearing from the Rochester Intl.: RWY 31-LOC (previously 5.3 miles northeast and 4 miles southwest of the Rochester southeast localizer course) extending from the 6.9-mile (increased from a 6.8-mile) radius to 7.5 miles (decreased from 17.3 miles) southeast of the airport; amending the northwest extension to within 3.9 miles each side of the 312° bearing from the Rochester Intl.: RWY 13-LOC (previously 5.3 miles southwest and 4 miles northeast of the Rochester northwest localizer course) extending from the 6.9-mile (increased from 6.8-mile) radius of the airport to 11.4 (decreased from 20) miles northwest of the airport;

And amending the Class E airspace extending upward from 700 feet above the surface to within a 6.7-mile (increased from 6.6-mile) radius of St. Cloud Regional Airport; amending the southeast extension to within 2.4 miles each side of the St. Cloud VOR/DME 140° (previously 143°) radial extending from the 6.7-mile (increased from 6.6-mile) radius of the airport to 7 (decrease from 7.2) miles southeast of the St. Cloud VOR/DME (previously airport); and updating the geographic coordinates of the airport to coincide with the FAA's aeronautical database.

This action is due to biennial airspace reviews.

Class D and Class E airspace designations are published in paragraphs 5000, 6002, 6004, and 6005, respectively, of FAA Order JO 7400.11F, dated August 10, 2021, and effective September 15, 2021, which is incorporated by reference in 14 CFR 71.1. The Class D and E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

AGL MN D Rochester, MN [Amended]

Rochester International Airport, MN

(Lat. 43°54′30″ N, long. 92°30′00″ W)

That airspace extending upward from the surface to and including 3,800 feet MSL within a 4.4-mile radius of the Rochester International Airport. This Class D airspace area is effective during the specific dates and times established in advance by a Notice to Airmen. The effective dates and times will thereafter be published continuously in the Chart Supplement.

AGL MN D St. Cloud, MN [Amended]

St. Cloud Regional Airport, MN

(Lat. 45°32′46″ N, long. 94°03′34″ W)

That airspace extending upward from the surface to and including 3,500 feet MSL within a 4.2-mile radius of the St. Cloud Regional Airport. This Class D airspace area is effective during the specific dates and times established in advance by a Notice to Airmen. The effective dates and times will thereafter be continuously published in the Chart Supplement.

Paragraph 6002 Class E Airspace Designated as a Surface Area.

* * * * *

AGL MN E2 Rochester, MN [Amended]

Rochester International Airport, MN

(Lat. 43°54′30″ N, long. 92°30′00″ W)

Within a 4.4-mile radius of Rochester International Airport. This Class E airspace area is effective during the specific dates and times established by a Notice to Airmen. The effective dates and times will thereafter be continuously published in the Chart Supplement.

AGL MN E2 St. Cloud, MN [Amended]

St. Cloud Regional Airport, MN

(Lat. 45°32′46″ N, long. 94°03′34″ W)

Within a 4.2-mile radius of St. Cloud Regional Airport. This Class E airspace area is effective during the specific dates and times established by a Notice to Airmen. The effective dates and times will thereafter be continuously published in the Chart Supplement.

Paragraph 6004 Class E Airspace Areas Designated as an Extension to a Class D or Class E Surface Area.

* * * * *

AGL MN E4 Rochester, MN [Removed]

AGL MN E4 St. Cloud, MN [Amended]

St. Cloud Regional Airport, MN

(Lat. 45°32′46″ N, long. 94°03′34″ W)

St. Cloud VOR/DME

(Lat. 45°32′58″ N, long. 94°03′31″ W)

That airspace extending upward from the surface within 2.4 miles each side of St. Cloud VOR/DME 140° radial extending from the 4.4-mile radius of St. Cloud Regional Airport to 7 miles southeast of the St. Cloud VOR/DME.

Paragraph 6005 Class E Airspace Areas Extending Upward From 700 Feet or More Above the Surface of the Earth.

* * * * *

AGL MN E5 Rochester, MN [Amended]

Rochester International Airport, MN

(Lat. 43°54′30″ N, long. 92°30′00″ W)

Rochester Intl.: RWY 31-LOC

(Lat. 43°55′19″ N, long. 92°30′54″ W)

Rochester Intl.: RWY 13-LOC

(Lat. 43°54′06″ N, long. 92°29′02″ W)

Mayo Clinic-St. Mary's Hospital, MN

(Lat. 44°01′11″ N, long. 92°28′59″ W)

That airspace extending upward from 700 feet above the surface within a 6.9-mile radius of the Rochester International Airport, and within 2 miles each side of the 132° bearing from the Rochester International Airport extending from the 6.9-mile radius of Rochester International Airport to 10.9 miles southeast of Rochester International Airport, and within 4 miles each side of the 132° bearing from the Rochester Intl.: RWY 31-LOC extending from the 6.9-mile radius of Rochester International Airport to 7.5 miles southeast of Rochester International Airport, and within 3.9 miles each side of the 312° bearing from the Rochester Intl.: RWY 13-LOC extending from the 6.9-mile radius of Rochester International Airport to 11.4 miles northwest of Rochester International Airport, and within a 6.4-mile radius of the Mayo Clinic-St. Mary's Hospital.

* * * * *

AGL MN E5 St. Cloud, MN [Amended]

St. Cloud Regional Airport, MN

(Lat. 45°32′46″ N, long. 94°03′34″ W)

St. Cloud VOR/DME

(Lat. 45°32′58″ N, long. 94°03′31″ W)

That airspace extending upward from 700 feet above the surface within a 6.7-mile radius of St. Cloud Regional Airport, and within 2.4 miles each side of the St. Cloud VOR/DME 140° extending from the 6.7-mile radius of the airport to 7 miles southeast of the St. Cloud VOR/DME.

Issued in Fort Worth, Texas, on November 4, 2021.
Martin A. Skinner,
Acting Manager, Operations Support Group, ATO Central Service Center.

[FR Doc. 2021-24456 Filed 11-10-21; 8:45 am]

BILLING CODE 4910-13-P